FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR Part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

CaroTrans International, Inc. (NVO), 2401 Morris Avenue, 2nd Floor West, Union, NJ 07083, Officer: Greg Howard, CEO/President, (Qualifying Individual), Application Type: Trade Name Change.

Direct Express, Inc. (NVO), 17823 Evelyn Avenue, Gardena, CA 90248, Officers: Christian D. Ortiz, Director/President, (Qualifying Individual), Robert Ewing, Director/Vice President, Application Type: QI Change.

EP Logistics, LLC (NVO & OFF), 9640 Joe Rodriguez, Suite 1, El Paso, TX 79927, Officer: Octavio Saavedra, Managing Director, (Qualifying Individual), Application Type: Add NVO Service.

Joffroy Warehouse, Inc. dba Joffroy Group Ocean (NVO & OFF), 1251 N. Industrial Park Avenue, Nogales, AZ 85621, Officers: Gustavo Ceballos, Treasurer, (Qualifying Individual), Rodolfo A. Joffroy, President, Application Type: New NVO & OFF License.

Kestrel Liner Agencies LLP (NVO & OFF), 9505 NW 108 Avenue, Miami, FL 33178, Officers: Steven Keats, Vice President, (Qualifying Individual), Andrew Thorne, President, Application Type: Business Structure Change.

Lesniewski & Continental Shipping Group, Inc. (NVO & OFF), 375 Blair Road, Avenel, NJ 07001, Officers: Zdzislaw Lesniewski, Vice President, (Qualifying Individual), Malgorzata Lesniewski, President/Director, Application Type: New NVO & OFF License.

M & S Logistics, L.L.C. (NVO), 503 McKeever, Suite 1521, Arcola, TX 77583, Officers: Willem J. Roldaan, Manager, (Qualifying Individual), David R. Price, Manager, Application Type: New NVO License.

Madrigal Express, Inc. (NVO & OFF), 1789 NW. 22nd Street, Miami, FL 33142, Officer: Jose A. Madrigal, President/Treasurer/Secretary/Director, (Qualifying Individual), Application Type: New NVO & OFF License.

Marli Shipping, Inc. (NVO & OFF), 155 Algonquin Parkway, Whippany, NJ 07981, Officers:Marcel Z. Antaki, President, (Qualifying Individual), Liliane M. Antaki, Secretary/Treasurer, Application Type: New NVO & OFF License.

Northstar Freight International Inc. (NVO), 9528 Cortada Street, Unit E, El Monte, CA 90733, Officer: Mei Mao, President/Secretary/Treasurer, (Qualifying Individual), Application Type: New NVO License.

Oceana Global Logistics,LLC (NVO & OFF), 845 Spring Street, Suite 506, Atlanta, GA 30308, Officers: Wewagesachintha S. Dep, Chief Executive Manager, (Qualifying Individual), Renuka Devacaanthan, Member, Application Type: New NVO & OFF License.

Pacific Express, Inc. (NVO), 950 Lunt Avenue, Elk Grove Village, IL 60007, Officers: Daniel D. Char, President/Secretary, (Qualifying Individual), Kyoung Pyo Hong, Treasurer. Application Type: QI Change.

Pinnacle International Freight Limited, dba Blue Mountain Line (NVO), Mortimer Road, Narborough, Leicester LE19 2GA, United Kingdom, Officers: Martyn J. Burrell, Secretary, (Qualifying Individual), Nathan J. Burrell, Managing Director, Application Type: Trade Name Change.

Sea Horse Express Inc. (NVO & OFF), 1250 Newark Turnpike, Kearny, NJ 07032, Officers: Joseph Blanco, Vice President/Secretary, (Qualifying Individual), Desiree Herrera, President, Application Type: New NVO & OFF License.

Seaport Int'l Freight Consolidators, Inc. (NVO), 8550 NW 61st Street, Miami, FL 33166, Officers: Winston Barrett, Vice President, (Qualifying Individual), Floyd O. Chin, President, Application Type: New NVO License.

Smartex Corp. dba Smartex (NVO & OFF), 5055 NW 74th Avenue, #5, Miami, FL 33166, Officers: Juan C. Betancourt, President, (Qualifying Individual), Maria A. Betancourt, Vice President/Secretary, Application Type: New NVO & OFF License.

UT Freight Forwarders Ltd. (NVO & OFF), 161-15 Rockaway Blvd., Jamaica, NY 11434, Officers: Betty Y. Ma, Treasurer/Director, (Qualifying Individual), John Hwang, President/Director, Application Type: QI Change.

Trans-Atlantic Agencies, Inc. (NVO & OFF), 9716 Pulaski Highway, Baltimore, MD 21220, Officers: David M. Keller, President, (Qualifying Individual), Donna J. Keller, Secretary/Treasurer, Application Type: New NVO & OFF License.

Welco International Services, Inc. (OFF), 3020 West Lobo Ridge, New Albany, IN 47150, Officer: Christopher M. Welch, President/Secretary, (Qualifying Individual), Application Type: New OFF License.

Wilson Transportation, Inc. (OFF), 16226 Foster Street, Overland Park, KS 66085, Officers: Jerry G. Owen, Vice President International, (Qualifying Individual), Mark A. Wilson, President/Treasurer/Secretary, Application Type: New OFF License.

Dated: March 25, 2011.
Karen V. Gregory,
Secretary.

[FR Doc. 2011-7488 Filed 3-30-11; 8:45 am]

BILLING CODE 6730-01-P